DEPARTMENT OF HEALTH AND HUMAN SERVICES

National Institutes of Health

Proposed Collection; 60-Day Comment Request; Intramural Continuing Umbrella of Research Experiences (iCURE) Application (National Cancer Institute)

AGENCY: National Institutes of Health, Department of Health and Human Services.

ACTION: Notice.

SUMMARY: In compliance with the requirement of the Paperwork Reduction Act of 1995 to provide opportunity for public comment on proposed data collection projects, the National Cancer Institute (NCI) will publish periodic summaries of propose projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Alison Lin, 9609 Medical Center Drive, Rockville, MD 20850 or call non-toll-free number (240) 276-6177 or Email your request, including your address to: linaj@mail.nih.gov. Formal requests for additional plans and instruments must be requested in writing.

SUPPLEMENTARY INFORMATION: Section 3506(c)(2)(A) of the Paperwork Reduction Act of 1995 requires: Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimize the burden of the collection of information on those who are to respond, including the use of appropriate automated, electronic, mechanical, or other technological collection techniques or other forms of information technology.

Proposed Collection Title: Intramural Continuing Umbrella of Research Experiences (iCURE) Application, 0925-XXXX, Exp., Date XX/XXXX, EXISTING COLLECTION IN USE WITHOUT OMB APPROVAL, National Cancer Institute (NCI), National Institutes of Health (NIH).

Need and Use of Information Collection: The new Intramural Continuing Umbrella of Research Experiences (iCURE) program supports mentored research experiences for qualified post-baccalaureate (including post masters) individuals, graduate students, and postdoctoral fellows in the multidisciplinary National Cancer Institute (NCI) intramural research environment. This information collection request are applications and a reference letter to help evaluate the merits of the candidates and their potential match for the iCURE program. iCURE is an extension of the highly successful NCI Center to Reduce Cancer Health Disparities' (CRCHD) Continuing Umbrella of Research Experiences (CURE) program which helps support the career progress of its scholars toward research independence, as well as fosters and sustains diversity in the biomedical research pipeline. Like the CURE program, iCURE strongly encourages the participation of individuals from underrepresented populations and is aligned with NCI's interest in diversity. The benefit of collecting this information is to enable the selection of the best matching candidates for the iCURE program. The iCURE program aims to, 1. Enhance the diversity of the NCI Intramural Research Program (IRP), and 2. Promote the career progress of the iCURE scholars in cancer research.

OMB approval is requested for 3 years. There are no costs to respondents other than their time. The total estimated burden hours are 305.

Estimated Annualized Burden Hours
Form name | Type of respondent | Number of respondents | Number of responses per respondent | Average time per response (in hours) | Total annual burden hour
Postbac Supplemental Application | Post-Baccalaureate (Including Post-Master's) Individuals | 50 | 1 | 30/60 | 25
Graduate Student Application | Graduate Students | 30 | 1 | 2 | 60
Postdoctoral Fellowship Application | Postdoctoral Candidates | 50 | 1 | 2 | 100
Reference Letter | PIs, professors, supervisors | 240 | 1 | 30/60 | 120
Total |  | 370 | 370 |  | 305

Patricia M. Busche,
Project Clearance Liaison, National Cancer Institute, National Institutes of Health.

[FR Doc. 2018-16053 Filed 7-26-18; 8:45 am]

BILLING CODE 4140-01-P